DEPARTMENT OF COMMERCE

National Oceanic and Atmospheric Administration

RIN 0648-XA97

Marine Mammals; File No. 881-1890

AGENCY: National Marine Fisheries Service (NMFS), National Oceanic and Atmospheric Administration (NOAA), Commerce.

ACTION: Notice; issuance of permit amendment.

SUMMARY: Notice is hereby given that Permit No. 881-1890 for conduct of research on Steller sea lions (Eumetopias jubatus) in Alaska, held by The Alaska SeaLife Center (ASLC), Seward, AK, has been amended.

ADDRESSES: The permit amendment and related documents are available for review upon written request or by appointment in the following office(s):

Permits, Conservation and Education Division, Office of Protected Resources, NMFS, 1315 East-West Highway, Room 13705, Silver Spring, MD 20910; phone (301)713-2289; fax (301)427-2521; http://www.nmfs.noaa.gov/pr/permits/review.htm; and

Alaska Region, NMFS, P.O. Box 21668, Juneau, AK 99802-1668; phone (907)586-7221; fax (907)586-7249.

FOR FURTHER INFORMATION CONTACT: Tammy Adams or Amy Sloan (301)713-2289.

SUPPLEMENTARY INFORMATION: On February 15, 2007, notice was published in the Federal Register (72 FR 7420) that a request for a scientific research permit to take Steller sea lions had been submitted by the ASLC. The requested permit was issued on June 18, 2007 (72 FR 35427). An amendment to the subject permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit issued to ASLC authorized activities to conduct population monitoring and studies on health, nutrition, and foraging behavior of free ranging Steller sea lions in the Gulf of Alaska and the Aleutian Islands (west of 144o West), and on temporarily captive female Steller sea lions at the ASLC. The permit has been amended to allow population monitoring and studies on health, nutrition, and foraging behavior of free ranging Steller sea lions east of 144o West, and on temporarily captive male Steller sea lions at the ASLC.

In compliance with the National Environmental Policy Act of 1969 (42 U.S.C. 4321 et seq.), a Programmatic Environmental Impact Statement (PEIS) for Steller Sea Lion and Northern Fur Seal Research was prepared to evaluate the potential environmental impacts of awarding grants and issuing permits to facilitate research on these species. Information about the PEIS is available at http://www.nmfs.noaa.gov/pr/permits/eis/steller.htm.

Issuance of the permit, as required by the ESA, was based on a finding that such permit: (1) was applied for in good faith; (2) will not operate to the disadvantage of such endangered species; and (3) is consistent with the purposes and policies set forth in section 2 of the ESA.

Dated: June 29, 2007.
P. Michael Payne,
Chief, Permits, Conservation and Education Division, Office of Protected Resources, National Marine Fisheries Service.

[FR Doc. E7-13062 Filed 7-3-07; 8:45 am]

BILLING CODE 3510-22-S